PENSION BENEFIT GUARANTY CORPORATION

Proposed Submission of Information Collection for OMB Review; Comment Request; Historical Pension Plan Tracing Service Intake Information

AGENCY: Pension Benefit Guaranty Corporation.

ACTION: Notice of intent to request OMB approval of information collection.

SUMMARY: The Pension Benefit Guaranty Corporation (PBGC) intends to request that the Office of Management and Budget (OMB) approve, under the Paperwork Reduction Act, a new collection of information. The purpose of the information collection is to obtain information that the Office of the PBGC Participant and Plan Sponsor Advocate requires from the public to conduct its pension plan tracing service. This notice informs the public of PBGC's intent and solicits public comment on the collection of information.

DATES: Comments must be submitted on or before September 20, 2024.

ADDRESSES: Comments may be submitted by any of the following methods:

• Federal eRulemaking Portal: http://www.regulations.gov. Follow the instructions for submitting comments.

• Email: paperwork.comments@pbgc.gov. Refer to Pension Plan Tracing Service in the subject line.

• Mail or Hand Delivery: Regulatory Affairs Division, Office of the General Counsel, Pension Benefit Guaranty Corporation, 445 12th Street SW, Washington, DC 20024-2101.

Commenters are strongly encouraged to submit comments electronically. Commenters who submit comments on paper by mail should allow sufficient time for mailed comments to be received before the close of the comment period.

All submissions received must include the agency's name (Pension Benefit Guaranty Corporation, or PBGC) and refer to the Pension Plan Tracing Service. All comments received will be posted without change to PBGC's website, www.pbgc.gov, including any personal information provided. Do not submit comments that include any personally identifiable information or confidential business information.

Copies of the collection of information may be obtained without charge by writing to the Disclosure Division, (disclosure@pbgc.gov), Office of the General Counsel, Pension Benefit Guaranty Corporation, 445 12th Street SW, Washington, DC 20024-2101; or, calling 202-229-4040 during normal business hours. If you are deaf or hard of hearing, or have a speech disability, please dial 7-1-1 to access telecommunications relay services.

FOR FURTHER INFORMATION CONTACT: Monica O'Donnell (odonnell.monica@pbgc.gov), Attorney, Regulatory Affairs Division, Office of the General Counsel, Pension Benefit Guaranty Corporation, 445 12th Street SW, Washington, DC 20024-2101; 202-229-8706. If you are deaf or hard of hearing, or have a speech disability, please dial 7-1-1 to access telecommunications relay services.

SUPPLEMENTARY INFORMATION: The Office of the PBGC Participant and Plan Sponsor Advocate (OPPSA) acts as a liaison between PBGC, sponsors of defined benefit pension plans insured by PBGC, and participants in pension plans trusteed by PBGC. OPPSA assists participants with searching for historical pension plan information as part of its pension plan tracing service. To conduct the tracing research, OPPSA uses an internal pension plan tracing research dashboard, which displays select data elements from various PBGC systems, including annual premium filing records and case information. The information found through OPPSA's tracing research can help participants locate historical plan information. To perform the search, OPPSA will request participant contact information and specific plan information. This information includes the participant's name, phone number, and email address; the employer's name and location; the pension plan name; the employer identification number (EIN); the plan number (PN); the years that the participant worked for the employer; whether the person was an hourly, salaried, or part-time employee; any information or relevant documentation regarding the pension plan and the inquirer's benefit; and any other information about the employer or pension plan, such as historical or corporate research. The collection of information is voluntary and minimally burdensome. It will enable OPPSA to more effectively run its pension plan tracing service and to assist participants in locating historical plan information.

PBGC estimates that it will receive intake information from approximately 200 participants annually and that it will take participants 0.5 hours to complete and submit the information. The time needed to provide the information will vary among participants depending on what information they have readily available to them. The total amount of burden associated with this collection of information is estimated to be 100 hours and an estimated $0.

PBGC intends to request that OMB approve PBGC's use of this form for 3 years. An agency may not conduct or sponsor, and a person is not required to respond to, a collection of information unless it displays a currently valid OMB control number.

PBGC is soliciting public comments to—

• Evaluate whether the proposed collection of information is necessary for the proper performance of the functions of the agency, including whether the information will have practical utility;

• Evaluate the accuracy of the agency's estimate of the burden of the proposed collection of information, including the validity of the methodologies and assumptions used;

• Enhance the quality, utility, and clarity of the information to be collected; and

• Minimize the burden of the collection of information on those who are to respond, including through the use of appropriate automated, electronic, mechanical, or other technological collection techniques or other forms of information technology, e.g., permitting electronic submission of responses.

Issued in Washington, DC.
Hilary Duke,
Assistant General Counsel for Regulatory Affairs, Pension Benefit Guaranty Corporation.

[FR Doc. 2024-16001 Filed 7-19-24; 8:45 am]

BILLING CODE 7709-02-P